FEDERAL COMMUNICATIONS COMMISSION

[OMB 3060-1268; FRS 16449]

Information Collection Approved by the Office of Management and Budget (OMB)

AGENCY: Federal Communications Commission.

ACTION: Notice.

SUMMARY: The Federal Communications Commission (FCC) has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Nicole Ongele, Office of the Managing Director, at (202) 418-2991, or email: Nicole.Ongele@fcc.gov.

SUPPLEMENTARY INFORMATION: The total annual reporting burdens and costs for the respondents are as follows:

OMB Control Number: 3060-1268.

OMB Approval Date: January 15, 2020.

OMB Expiration Date: January 31, 2023.

Title: Incumbent 39 GHZ Licensee Payment Instructions.

Form No.: FCC Form 1877.

Respondents: Individuals or household, Business or other for-profit.

Number of Respondents and Responses: 10 respondents; 10 responses.

Estimated Time per Response: 5 hours.

Frequency of Response: One-time reporting requirement.

Total Annual Burden: 50 hours.

Total Annual Cost: No Cost.

Obligation to Respond: Required to obtain or retain benefits. Statutory authority for this information collection is contained in 47 U.S.C. 309(j)(8)(G).

Privacy Act Impact Assessment: No impact(s).

Nature and Extent of Confidentiality: The information collection includes information identifying bank accounts and providing account and routing numbers to access those accounts. FCC considers that information to be records not routinely available for public inspection under 47 CFR 0.457, and exempt from disclosure under FOIA exemption 4 (5 U.S.C. 552(b)(4)).

Needs and Uses: Pursuant to 47 U.S.C. 309(j)(8)(G), the Commission is conducting an auction for 39 GHz spectrum in which it is offering incumbent licensees a share of auction proceeds as an incentive to relinquish voluntarily previously granted spectrum usage rights in order to permit the assignment of new initial licenses subject to flexible use rules. The information in the form is needed to make payments of the respective shares of auction proceeds. See also 47 CFR 1.2115(b) information required from a licensee with respect to payments in incentive auctions.

Federal Communications Commission.
Marlene Dortch,
Secretary, Office of the Secretary.

[FR Doc. 2020-02146 Filed 2-3-20; 8:45 am]

BILLING CODE 6712-01-P